DEPARTMENT OF JUSTICE

Antitrust Division

Notice Pursuant to the National Cooperative Research and Production Act of 1993—Consortium for Rare Earth Technologies

Notice is hereby given that, on April 22, 2022, pursuant to Section 6(a) of the National Cooperative Research and Production Act of 1993, 15 U.S.C. 4301 et seq. (“the Act”), Consortium for Rare Earth Technologies (“CREaTe”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 14bis Supply Tracking, Burlington, MA; APL Engineered Materials, Inc., Urbana, IL; Arnold Magnetic Technologies, Rochester, NY; Battelle Memorial Institute, Columbus, OH; BD Consulting and Investigations, Inc., San Jose, CA; BlueDesal, Inc., Sausalito, CA; Cambria County Association for the Blind and Handicapped, Johnstown, PA; Concurrent Technologies Corporation, Johnstown, PA; DKW Consulting LLC, Tallahassee, FL; ePropelled, Lowell, MA; GlycoSurf, Inc., Salt Lake City, UT; Graphene Layers, North Brunswick, NJ; Greentech Minerals Advisory Group, Alexandria, VA; Guided Particle Systems, Inc., Pensacola, FL; ICD Alloys and Metals LLC, Winston Salem, NC; II-VI Aerospace & Defense, Murrieta, CA; Intelligent Material Solutions, Princeton, NJ; Inventus LLC, Greer, SC; Lawrence Livermore National Laboratory, Livermore, CA; Lockheed Martin, Bethesda, MD; Mannahatta Partners LLC, Indialantic, FL; Matsys, Inc., Sterling, VA; Minerva Lithium, Greensboro, NC; MuniRem Environmental LLC, Duluth, GA; NGC, Plymouth, MN; NuMat Technologies, Skokie, IL; Pangea Filtration Technology LLC, St. Petersburg, FL; Polaron Analytics, Beavercreek, OH; Polykala Technologies LLC, San Antonio, TX; Powdermet, Inc., Euclid, OH; Rensselaer Polytechnic Institute, Troy, NY; Riverside Research Institute, Arlington, VA; SimBlocks LLC, Orlando, FL; Smardt Chiller Group, Inc., Plattsburgh, NY; Southwest Research Institute, San Antonio, TX; UNandUP, LLC, Saint Louis, MO; Universal Achemetal Titanium LLC, Butte, MT; University of North Dakota, College of Engineering and Mines, Grand Forks, ND; Urban Mining Company, San Marcos, TX; Weinberg Medical Physics, Inc., North Bethesda, MD; Western Rare Earths, Phoenix, AZ; and Xlight Corporation, Mendham, NJ. The general area of CREaTe's planned activity is to guide, conduct, or use research to support Rare Earth extraction, processing, reclaiming and implementation in end products.

Suzanne Morris,
Chief, Premerger and Division Statistics, Antitrust Division.

[FR Doc. 2022-10276 Filed 5-12-22; 8:45 am]

BILLING CODE P